DEPARTMENT OF LABOR

Employment and Training Administration

[NAFTA-7627]

Power One, Boston, MA; Notice of Termination of Certification

This notice terminates the Certification Regarding Eligibility to Apply For Worker Adjustment Assistance issued by the Department on February 19, 2003, for all workers of Power One located in Boston, Massachusetts. The notice was published in the Federal Register on March 10, 2003 (68 FR 11410).

The Department, at the request of the State agency, reviewed the certification for workers of Power One in Boston, Massachusetts. Findings show that workers of the subject firm produced DC/DC power supplies.

The certification review revealed that workers of Power One are covered by an existing certification, NAFTA-5138, issued on October 4, 2001. While that certification noted that Power One workers were located in Allston, Massachusetts, the Department has learned that Allston is used synonymously with Boston.

Since the workers of Power One, located in Boston, Massachusetts, also known as Allston, Massachusetts, are covered by an existing certification, the continuation of this certification would serve no purpose and the certification has been terminated.

Signed at Washington, DC, this 13th day of March 2003.
Richard Church,
Certifying Officer, Division of Trade Adjustment Assistance.

[FR Doc. 03-10349 Filed 4-25-03; 8:45 am]

BILLING CODE 4510-30-M